DEPARTMENT OF COMMERCE

International Trade Administration

[A-580-810]

Certain Welded Stainless Steel Pipes From the Republic of Korea: Final Results of Antidumping Duty Administrative Review

AGENCY: Import Administration, International Trade Administration, Department of Commerce.

SUMMARY: On December 24, 2008, the Department of Commerce (the Department) published the preliminary results of administrative review of the antidumping duty order on certain welded stainless steel pipes (WSSP) from the Republic of Korea. The review was requested by Bristol Metals LLC (domestic interested party), and covers one producer of the subject merchandise, SeAH Steel Corporation (SeAH). The period of review (POR) is December 1, 2006 through November 30, 2007. Based on our analysis of the comments received, we have made changes to the preliminary results, which are discussed in the “Changes Since the Preliminary Results” section below. For the final dumping margin, see the “Final Results of Review” section below.

DATES: Effective Date: June 30, 2009.

FOR FURTHER INFORMATION CONTACT: Myrna Lobo, AD/CVD Operations, Office 6, Import Administration, International Trade Administration, U.S. Department of Commerce, 14th Street and Constitution Avenue, NW., Washington, DC 20230; telephone: (202) 482-2371.

SUPPLEMENTARY INFORMATION:

Background

On December 24, 2008, the Department published in the Federal Register the preliminary results of the administrative review of the antidumping duty order on WSSP from the Republic of Korea. See Certain Welded Stainless Steel Pipes from the Republic of Korea: Preliminary Results of Antidumping Duty Administrative Review, 73 FR 79050 (December 24, 2008) (Preliminary Results). In the preliminary results, the Department explained it intended to solicit quarterly pipe cost of production (COP) and constructed value (CV) information from SeAH after the preliminary results. On January 15, 2009, the Department issued a supplemental section D questionnaire requesting the quarterly cost information. On January 26, 2009, SeAH submitted its response. After evaluating the information, on April 29, 2009, the Department issued its preliminary decision to adjust the COP and CV information. See Memorandum from Gina Lee, Senior Accountant to Neal M. Halper, Director, Office of Accounting, Proposed Adjustments to the Cost of Production and Constructed Value Information—SeAH Steel Corporation dated April 29, 2009.

The Department conducted sales and cost verifications of SeAH in Seoul, South Korea in February 2009 and March 2009, and a sales verification of SeAH's U.S. affiliate, Pusan Pipe America (PPA) in April 2009. See the “Verification” section below for additional information.

On April 2, 2009, the Department extended the deadline for the final results from April 23, 2009 to June 22, 2009. See Welded ASTM A-312 Stainless Steel Pipe From South Korea: Extension of Time Limit for Final Results of Antidumping Duty Administrative Review, 74 FR 14959 (April 2, 2009).

The Department invited parties to comment on the Preliminary Results, the preliminary decision to adjust COP and CV information, and the verification reports. On May 4, 2009, the Department extended the deadlines for case briefs and rebuttal briefs. On May 11, 2009, the domestic interested party and respondent filed timely case briefs. On May 18, 2009, both parties filed rebuttal briefs.

The Department met with interested parties on May 28, 2009, and June 1, 2009. See Memorandum to the File from Dana Mermelstein, Program Manager, Office 6, Administrative Review of the Antidumping Duty Order on Welded Stainless Steel Pipe from Korea: Meetings with Interested Parties, dated June 2, 2009.

Period of Review

The POR is December 1, 2006 through November 30, 2007.

Scope of the Order

The merchandise subject to the antidumping duty order is welded austenitic stainless steel pipe that meets the standards and specifications set forth by the American Society for Testing and Materials (ASTM) for the welded form of chromium-nickel pipe designated ASTM A-312. The merchandise covered by the scope of the order also includes austenitic welded stainless steel pipes made according to the standards of other nations which are comparable to ASTM A-312.

WSSP is produced by forming stainless steel flat-rolled products into a tubular configuration and welding along the seam. WSSP is a commodity product generally used as a conduit to transmit liquids or gases. Major applications for steel pipe include, but are not limited to, digester lines, blow lines, pharmaceutical lines, petrochemical stock lines, brewery process and transport lines, general food processing lines, automotive paint lines, and paper process machines. Imports of WSSP are currently classifiable under the following Harmonized Tariff Schedule of the United States (HTSUS) subheadings: 306.40.5005, 7306.40.5015, 7306.40.5040, 7306.40.5065, and 7306.40.5085. Although these subheadings include both pipes and tubes, the scope of the antidumping duty order is limited to welded austenitic stainless steel pipes. The HTSUS subheadings are provided for convenience and customs purposes. However, the written description of the scope of the order is dispositive.

Verification

As provided in section 782(i) of the Tariff Act of 1930, as amended (“the Act”), from February 9, 2009 through February 13, 2009, and from March 9, 2009 through March 13, 2009, the Department verified the sales and cost information submitted by SeAH in its questionnaire responses provided during the course of this review. The Department also conducted verification of SeAH's U.S. affiliate, Pusan Pipe America (PPA) on April 15 and 16, 2009, in Los Angeles, California. We used standard verification procedures including examination of relevant accounting and production records, and original source documents provided by the respondent. See Memorandum from Jacqueline Arrowsmith and Douglas Kirby, International Trade Compliance Analysts, to The File, “Verification of the Sales Response of SeAH Steel Corporation (SeAH) in the 2006-2007 Antidumping Duty Administrative Review of certain welded Stainless Steel Welded Pipe from the Republic of Korea (South Korea),” dated March 25, 2009 (“Sales Verification Report”); Memorandum from Douglas Kirby and Summer Avery, International Trade Compliance Analysts, to The File, “Verification of the Sales Response of Pusan Pipe America (PPA) in the 2006-2007 Antidumping Duty Administrative Review of certain welded Stainless Steel Welded Pipe from the Republic of Korea (South Korea),” dated April 27, 2009 (“CEP Verification Report”); Memorandum from Stephanie Arthur to Neal Halper “Verification of the Cost Response of SeAH Steel Corporation in the Antidumping Duty Administrative Review of Welded ASTM A-312 Stainless Steel Pipe from Korea,” dated April 28, 2009 (“Cost Verification Report”). The public versions of these verification reports are on file in the Central Records Unit (CRU), Room 1117 of the main Commerce Building.

Analysis of Comments Received

The issues raised in the case and rebuttal briefs by parties to this administrative review are addressed in the Memorandum from John M. Andersen, Acting Deputy Assistant Secretary for Import Administration to Ronald K. Lorentzen, Acting Assistant Secretary for Import Administration; Antidumping Duty Administrative Review of Certain Welded Stainless Steel Pipes from the Republic of Korea: Issues and Decision Memorandum for the Final Results (Decision Memorandum), dated concurrently with this notice and which is hereby adopted by this notice. A list of the issues addressed in the Decision Memorandum is appended to this notice. The Decision Memorandum is also on file in the CRU, and can be accessed directly on the Web at http://ia.ita.doc.gov/frn. The paper copy and electronic version of the Decision Memorandum are identical in content.

Changes Since the Preliminary Results

Based on the results of verification, our analysis of comments received, and our consideration of information submitted by SeAH on January 26, 2009, in its supplemental questionnaire response, received subsequent to the issuance of the Preliminary Results, we have made adjustments to our margin calculations. As explained in our Decision Memorandum, we have continued to use a quarterly cost averaging methodology in calculating COP and CV. However, for these final results, we have made several changes to the calculation of COP and CV, and the margin program. We adjusted SeAH's reported financial expense ratio to (1) exclude interest income generated on retirement and severance deposits, and (2) include the net gain associated with currency options and swaps; we changed the adjustment applied to COM in our preliminary results pursuant to the major input and transactions disregarded rules; and, we made certain modifications to the program to ensure proper product comparisons and the use of the correct reporting period. These adjustments are discussed in detail in the Decision Memorandum, and in the Memorandum to the File, from Myrna Lobo, Case Analyst, Calculation Memorandum for the Final Results of Administrative Review of the Antidumping Duty Order on Stainless Steel Pipe from the Republic of Korea—SeAH Steel Corporation (June 22, 2009) at the section titled “Changes from the Preliminary Results.” See also Memorandum from Stephanie Arthur to Neal Halper, Adjustments to the Cost of Production and Constructed Value Information for the Final Results—SeAH Steel Corporation, (June 22, 2009).

Final Results of Review

As a result of our review, we determine that the following weighted-average margin exists for the period of December 1, 2006 through November 30, 2007:

Manufacturer/Exporter | Weighted-Average margin (Percent)
SeAH Steel Corporation | 9.05

Assessment Rates

The Department shall determine, and U.S. Customs and Border Protection (CBP) shall assess, antidumping duties on all appropriate entries. Pursuant to 19 CFR 351.212(b)(1) of the Department's regulations, the Department calculates an assessment rate for each importer of the subject merchandise. The Department intends to issue appropriate assessment instructions directly to CBP 15 days after the date of publication of these final results of review.

The Department clarified its “automatic assessment” regulation on May 6, 2003 (68 FR 23954). This clarification will apply to entries of subject merchandise during the period of review produced by the company included in these final results of review for which the reviewed company did not know their merchandise was destined for the United States. In such instances, we will instruct CBP to liquidate unreviewed entries at the all-others rate from the investigation if there is no rate for the intermediate company involved in the transaction. For a full discussion of this clarification, see Antidumping and Countervailing Duty Proceedings: Assessment of Antidumping Duties, 68 FR 23954 (May 6, 2003).

Cash Deposit Requirements

The following deposit requirements will be effective upon publication of the final results of this administrative review for all shipments of subject merchandise entered, or withdrawn from warehouse, for consumption on or after the publication date of these final results, as provided by section 751(a)(2)(C) of the Act: (1) For the company covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and, (4) if neither the exporter nor the producer is a firm covered in this review or in any previous segment of this proceeding, the cash deposit rate will be 7.00 percent, the all-others rate established in the less than fair value investigation. See Notice of Amended Final Determination and Antidumping Duty Order: Certain Welded Stainless Steel Pipe From the Republic of Korea, 60 FR 10064 (February 23, 1995).

Notification to Importers

This notice also serves as a final reminder to importers of their responsibility under 19 CFR 351.402(f) of the Department's regulations to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305(a)(3) of the Department's regulations. Timely written notification of the return or destruction of APO materials or conversion to judicial protective order is hereby requested. Failure to comply with the regulations and the terms of an APO is a sanctionable violation.

We are issuing and publishing these final results and this notice in accordance with sections 751(a)(1) and 777(i)(1) of the Act.

Dated: June 22, 2009.
Ronald K. Lorentzen,
Acting Assistant Secretary for Import Administration.

Appendix I—Issues in Decision Memorandum

Comment 1: Whether to Apply an Alternative Cost-Averaging Methodology

a. Legal Framework and Case Precedent

b. Significance of Cost Changes

c. Linkage Between Costs and Sales Prices

d. The Elimination of the Window Period for Price-to-Price Comparisons

e. The Cost Recovery Test

Comment 2: Application of the Major Input Rule

Comment 3: The Treatment of Gains Associated With Foreign Currency Swaps

Comment 4: The Treatment of Interest Income Earned on Retirement and Severance Deposits

Comment 5: Whether the Department Should Refrain From Zeroing Negative Margins

Comment 6: Calculation Issues

[FR Doc. E9-15492 Filed 6-29-09; 8:45 am]

BILLING CODE 3510-DS-P